DEPARTMENT OF THE INTERIOR

Fish and Wildlife Service

[FWS-HQ-R-2023-N022 FXGO1664091HCC0-FF09D00000-190]

Hunting and Wildlife Conservation Council Meeting

AGENCY: Fish and Wildlife Service, Interior.

ACTION: Notice of meeting.

SUMMARY: The U.S. Fish and Wildlife Service (Service) gives notice of a meeting of the Hunting and Wildlife Conservation Council (HWCC), in accordance with the Federal Advisory Committee Act.

DATES:

Meeting: The HWCC will meet on Monday, April 17, 2023, from 9 a.m. to 5 p.m. (Eastern Time).

Registration: Registration to attend or participate in the meeting is required. The deadline for registration is Monday, April 10, 2023.

Accessibility: The deadline for accessibility accommodation requests is Monday, April 10, 2023. Please see Accessibility Information below.

ADDRESSES: The meeting will take place at the U.S. Department of the Interior, 1849 C Street NW, Washington, DC 20240. Virtual participation will also be available via teleconference and broadcast over the internet. To register and receive the web address and telephone number for virtual participation, contact the Designated Federal Officer (see FOR FURTHER INFORMATION CONTACT).

FOR FURTHER INFORMATION CONTACT: Douglas Hobbs, Designated Federal Officer, by email at doug_hobbs@fws.gov, or by telephone at 703-358-2336. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The Hunting and Wildlife Conservation Council (HWCC) was established to further the provisions of the Fish and Wildlife Act of 1956 (16 U.S.C. 742a et seq.), the Federal Land Policy and Management Act of 1976 (43 U.S.C. 1701-1785), the National Wildlife Refuge System Improvement Act of 1997 (16 U.S.C. 668dd-ee), other statutes applicable to specific Department of the Interior bureaus, and Executive Order 13443 (August 16, 2007), “Facilitation of Hunting Heritage and Wildlife Conservation.” The HWCC's purpose is to provide recommendations to the Federal Government, through the Secretary of the Interior and the Secretary of Agriculture, regarding policies and endeavors that (a) benefit wildlife resources; (b) encourage partnership among the public; sporting conservation organizations; and Federal, State, Tribal, and territorial governments; and (c) benefit fair-chase recreational hunting and safe recreational shooting sports.

Meeting Agenda

This meeting is open to the public. The meeting agenda will include briefings from Department of the Interior and Department of Agriculture agencies on their efforts to implement the Great American Outdoors Act, Inflation Reduction Act, and Bipartisan Infrastructure and Jobs Act; on the status of current operations of the National Wildlife Refuge System related to hunting and shooting sports; on landlocked Federal lands managed by the Bureau of Land Management; and on implementation of big game migration corridor conservation efforts. The HWCC will also hear reports from its subcommittees and provide time to hear public comment. The final agenda and other related meeting information will be posted on the HWCC website, https://www.fws.gov/program/hwcc.

Public Input

If you wish to provide oral public comment or provide a written comment for the HWCC to consider, contact the Designated Federal Officer (see FOR FURTHER INFORMATION CONTACT) no later than Monday, April 10, 2023.

Depending on the number of people who want to comment and the time available, the amount of time for individual oral comments may be limited. Interested parties should contact the Designated Federal Officer, in writing (see FOR FURTHER INFORMATION CONTACT), for placement on the public speaker list for this meeting. Requests to address the HWCC during the meeting will be accommodated in the order the requests are received. Registered speakers who wish to expand upon their oral statements, or those who had wished to speak but could not be accommodated on the agenda, may submit written statements to the Designated Federal Officer up to 30 days following the meeting.

Accessibility Information

Please make requests in advance for sign language interpreter services, assistive listening devices, or other reasonable accommodations. Please contact the Designated Federal Officer (see FOR FURTHER INFORMATION CONTACT) no later than Monday, April 10, 2023, to give the U.S. Fish and Wildlife Service sufficient time to process your request. All reasonable accommodation requests are managed on a case-by-case basis.

Public Disclosure

Before including your address, phone number, email address, or other personal identifying information in a comment on this notice, you should be aware that your entire comment—including your personal identifying information—may be made publicly available at any time. While you can ask us in your comment to withhold your personal identifying information from public review, we cannot guarantee that we will be able to do so.

Authority: 5 U.S.C. 10.

Barbara W. Wainman,
Assistant Director—External Affairs.

[FR Doc. 2023-06340 Filed 3-27-23; 8:45 am]

BILLING CODE 4333-15-P